DEPARTMENT OF THE INTERIOR

Bureau of Reclamation

California Bay-Delta Public Advisory Committee Public Meeting

AGENCY: Bureau of Reclamation, Interior.

ACTION: Notice of meeting.

SUMMARY: In accordance with the Federal Advisory Committee Act, the California Bay-Delta Public Advisory Committee (Committee) will meet on June 20, 2007. The agenda for the Committee meeting will include discussions with State and Federal agency representatives on the CALFED Bay-Delta Program Draft End of Stage 1 Report and a recommendation from the Program Performance and Financing Subcommittee to include their Draft Performance Assessment in that Report; presentations from the agencies on long-term performance measures; and approval of the 207-08 Program Plans. The meeting will also include reports from the Lead Scientist and the Independent Science Board, Subcommittees, and updates on the status of the Environmental Justice Framework Proposal and Delta Vision initiatives underway.

DATES: The meeting will be held on Wednesday, June 20, 2007, from 9 a.m. to 4 p.m. If reasonable accommodation is needed due to a disability, please contract Colleen Kirtlan at (916) 445-5511 or TDD (800) 735-2929 at least 1 week prior to the meeting.

ADDRESSES: The meeting will be held at the John E. Moss Federal Building located at 650 Capitol Mall, 5th Floor, Sacramento, California.

FOR FURTHER INFORMATION CONTACT: Diane Buzzard, U.S. Bureau of Reclamation, at 916-987-5022 or Julie Alvis, California Bay-Delta Program, at 916-445-5551.

SUPPLEMENTARY INFORMATION: The Committee was established to provide advice and recommendation to the Secretary of the Interior on implementation of the CALFED Bay-Delta Program. The Committee makes recommendations on annual priorities, integration of the eleven Program elements, and overall balancing of the four Program objectives of ecosystem restoration, water quality, levee system integrity, and water supply reliability. The Program is a consortium of State and Federal agencies with the mission to develop and implement a long-term comprehensive plan that will restore ecological health and improve water management for beneficial uses of the San Francisco/Sacramento and San Joaquin Bay Delta.

Committee agendas and meeting materials will be available prior to all meetings on the California Bay-Delta Program Web site at http://calwater.ca.gov. and at the meetings. These meetings are open to the public. Oral comments will be accepted from members of the public at each meeting and will be limited to 3-5 minutes.

(Authority: The Committee was established pursuant to the Department of the Interior's authority to implement the Water Supply, Reliability, and Environmental Improvement Act, Pub. L. 108-361; the Fish and Wildlife Coordination Act, 16 U.S.C. 661 et seq.; the Endangered Species Act, 16 U.S.C. 1531 et seq.; and the Reclamation Act of 1902, 43 U.S.C. 391 et seq.; and the acts amendatory thereof or supplementary thereto, all collectively referred to as the Federal Reclamation laws.)

Dated: May 18, 2007.
Diane A. Buzzard,
Acting Special Projects Officer, Mid-Pacific Region, U.S. Bureau of Reclamation.

[FR Doc. 07-2742 Filed 6-1-07; 8:45 am]

BILLING CODE 4310-MN-M